DEPARTMENT OF HEALTH AND HUMAN SERVICES

Office of the Secretary

Office of the National Coordinator for Health Information Technology; Delegation of Authority

Notice is hereby given that I have delegated to the National Coordinator for Health Information Technology (National Coordinator), or his or her successor, the authorities vested in the Secretary under section 1704 of Title XVII of the Public Health Service Act (PHSA) (42 U.S.C. 300u-3), as amended, to conduct and support by grant or contract (and encourage others to support) such activities as may be required to make information respecting health information and health promotion, preventive health services, and education in the appropriate use of health care available to the consumers of medical care, providers of such care, schools, and others who are or should be informed respecting such matters.

Limitations

The delegation of authority granted herein under section 1704 of Title XVII of the PHSA (42 U.S.C. 300u-3) does not supersede any previous delegations of this authority.

The delegation of authority granted herein under section 1704 of the PHSA, as amended, is limited to making information available to the consumers of medical care, providers of such care, schools, and others who are or should be informed about the use of health information technology as it relates to health information and health promotion, preventive health services, and education in the appropriate use of health care.

The authority under section 1704 of the PHSA, as amended, shall be exercised under the Department's policy on regulations and the existing delegation of authority to approve and issue regulations.

This delegation of authority may be re-delegated.

This delegation of authority is effective immediately.

I hereby affirm and ratify any actions taken by the National Coordinator, or his or her subordinates, which involved the exercise of the authority under section 1704 of Title XVII of the PHSA (42 U.S.C. 300u-3), as amended, delegated herein prior to the effective date of this delegation of authority.

Authority: 44 U.S.C. 3101.

Dated: September 12, 2011.
Kathleen Sebelius,
Secretary.

[FR Doc. 2011-23886 Filed 9-16-11; 8:45 am]

BILLING CODE 4150-45-P